DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Administrator of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Administrator, Office of Trade Adjustment Assistance, at the address shown below, no later than July 15, 2019.

Interested persons are invited to submit written comments regarding the subject matter of the investigations to the Administrator, Office of Trade Adjustment Assistance, at the address shown below, not later than July 15, 2019.

The petitions filed in this case are available for inspection at the Office of the Administrator, Office of Trade Adjustment Assistance, Employment and Training Administration, U.S. Department of Labor, Room N-5428, 200 Constitution Avenue NW, Washington, DC 20210.

Signed at Washington, DC, this 11th day of June 2019.
Hope D. Kinglock,
Certifying Officer, Office of Trade Adjustment Assistance.

APPENDIX

188 TAA Petitions Instituted Between 4/1/19 and 5/31/19
TA-W | Subject firm (petitioners) | Location | Date of institution | Date of petition
94677 | Dexcom Inc. (Company) | Mesa, AZ | 04/01/19 | 03/29/19
94678 | Wells Fargo Vendor Financial (Workers) | Macon, GA | 04/01/19 | 03/29/19
94679 | Wells Fargo Vendor Financial LLC (Workers) | Macon, GA | 04/01/19 | 03/29/19
94680 | Wells Fargo Vendor Financial Services (Workers) | Macon, GA | 04/01/19 | 03/29/19
94681 | Bosal Industries-Georgia, Inc. (Union) | Ypsilanti, MI | 04/02/19 | 03/22/19
94682 | Bryant Rubber Corp., including on-site leased workers from Kimco (Company) | Harbor City, CA | 04/02/19 | 04/01/19
94683 | Steelcase Inc. (State/One-Stop) | , MI | 04/02/19 | 04/01/19
94684 | Superior Industries International (State/One-Stop) | Fayetteville, AR | 04/02/19 | 04/01/19
94685 | Alorica Inc. (State/One-Stop) | Fredericksburg, VA | 04/03/19 | 04/02/19
94686 | Chinook Trading Company (Chinook Asia LLC) (State/One-Stop) | Lake Oswego, OR | 04/03/19 | 04/02/19
94687 | Consolidated Metco (Company) | Etowah, TN | 04/04/19 | 04/03/19
94688 | Fargo Assembly Company (State/One-Stop) | Atchison, KS | 04/04/19 | 04/03/19
94689 | Philly Shipyard, Inc. (Union) | Philadelphia, PA | 04/04/19 | 04/03/19
94690 | Tosoh Quartz, Inc. (State/One-Stop) | Portland, OR | 04/04/19 | 04/03/19
94691 | Android (Union) | Belvidere, IL | 04/05/19 | 04/04/19
94692 | ATT Inc. (Workers) | Oakland and San Ramon, CA | 04/05/19 | 04/04/19
94693 | CSG International (State/One-Stop) | Elkhorn, NE | 04/05/19 | 04/03/19
94694 | Faneuil, Inc. (Vienna location only) (State/One-Stop) | Vienna, VA | 04/05/19 | 04/04/19
94695 | Grupo Antolin (Union) | Belvidere, IL | 04/05/19 | 04/04/19
94696 | Industrial Harness Company, Inc. (Company) | Shippensburg, PA | 04/05/19 | 04/04/19
94697 | Integrated Manufacturing and Assembly (State/One-Stop) | Hamtramck, MI | 04/05/19 | 04/04/19
94698 | Lumentum (State/One-Stop) | Milpitas, CA | 04/05/19 | 04/04/19
94699 | The Mosaic Company (State/One-Stop) | Plymouth, MN | 04/05/19 | 04/04/19
94700 | Payless (State/One-Stop) | Topeka, KS | 04/05/19 | 04/04/19
94701 | Cognizant (State/One-Stop) | Topeka, KS | 04/05/19 | 04/04/19
94702 | Rosenberger North America (Company) | Plano, TX | 04/05/19 | 04/04/19
94703 | Hanesbrands, Inc. (Company) | Humacao, PR | 04/05/19 | 04/04/19
94704 | Sulzer Pumps US Inc./Sulzer Bingham Pumps (State/One-Stop) | Portland, OR | 04/05/19 | 04/04/19
94705 | Syncreon (Union) | Belvidere, IL | 04/05/19 | 04/04/19
94706 | DXC Technologies (State/One-Stop) | Tysons, VA | 04/08/19 | 04/05/19
94707 | The Flint Group (State/One-Stop) | Weyers Cave, VA | 04/08/19 | 04/05/19
94708 | Amita Health (Workers) | Lisle, IL | 04/09/19 | 04/08/19
94709 | Cardone Industries, Inc. (Company) | Philadelphia, PA | 04/09/19 | 04/08/19
94710 | Claims Recovery Financial Services (State/One-Stop) | Albion, NY | 04/09/19 | 04/08/19
94711 | Helmut Lang New York LLC (State/One-Stop) | New York, NY | 04/09/19 | 04/08/19
94712 | Highmark (Workers) | Camp Hill, PA | 04/09/19 | 04/05/19
94713 | Performance Direct, Inc. (Workers) | Sophia, WV | 04/09/19 | 04/08/19
94714 | Verizon Wireless (State/One-Stop) | Albuquerque, NM | 04/09/19 | 04/08/19
94715 | Zinus (Workers) | Tracy, CA | 04/09/19 | 04/08/19
94716 | Zinus (Workers) | Tracy, CA | 04/09/19 | 04/08/19
94717 | Zinus (Workers) | Summerville, SC | 04/09/19 | 04/08/19
94718 | HSBC Technology Services, USA (State/One-Stop) | Arlington Heights, IL | 04/10/19 | 04/10/19
94719 | Johnson Crushers International Inc. (State/One-Stop) | Eugene, OR | 04/10/19 | 04/09/19
94720 | Savox Communications Inc. (State/One-Stop) | Lincoln, NE | 04/10/19 | 04/09/19
94721 | Agfa US Corp. (Company) | Greenville, SC | 04/11/19 | 04/10/19
94722 | Atos IT Solutions & Services (State/One-Stop) | Hillsboro, OR | 04/11/19 | 04/10/19
94723 | Cardone Industries, Inc. (Workers) | Philadelphia, PA | 04/11/19 | 04/04/19
94724 | Continental Tire the Americas, LLC (State/One-Stop) | Mt. Vernon, IL | 04/11/19 | 04/11/19
94725 | Hanesbrands, Inc. (Company) | Mt. Airy, NC | 04/11/19 | 04/10/19
94726 | Marshfield Clinic Health System, Inc. (Workers) | Marshfield, WI | 04/11/19 | 04/08/19
94727 | HSNi (Workers) | St. Petersburg, FL | 04/12/19 | 04/11/19
94728 | Intel (State/One-Stop) | Hillsboro, OR | 04/12/19 | 04/11/19
94729 | Alfa Laval (Workers) | Lykens, PA | 04/15/19 | 04/14/19
94730 | Partners HealthCare Systems, Inc. (State/One-Stop) | Cambridge, MA | 04/15/19 | 04/12/19
94731 | State Street Corporation (State/One-Stop) | Quincy, MA | 04/15/19 | 03/29/19
94732 | Dimension Data North America, Inc. (State/One-Stop) | Santa Clara, CA | 04/16/19 | 04/11/19
94733 | EaglePicher Technologies LLC (State/One-Stop) | Joplin, MO | 04/16/19 | 04/15/19
94734 | Anixter International, Inc. (Workers) | Glenview, IL | 04/17/19 | 04/16/19
94735 | Consumer Products Group—a Company of Leggett & Platt (State/One-Stop) | Neosho, MO | 04/17/19 | 04/17/19
94736 | Construction Equipment Company (State/One-Stop) | Sheridan, OR | 04/18/19 | 04/17/19
94737 | LaMont Limited (State/One-Stop) | Burlington, IA | 04/18/19 | 04/17/19
94738 | Thermo Fisher Scientific Inc. (Company) | Bellefonte, PA | 04/18/19 | 04/17/19
94739 | Amphenol Printed Circuits (State/One-Stop) | Nashua, NH | 04/19/19 | 04/17/19
94740 | Associated Spring, a Business of Barnes Group Inc. (State/One-Stop) | Syracuse, NY | 04/19/19 | 04/18/19
94741 | Globarket Tire Recycling (State/One-Stop) | Vista, CA | 04/19/19 | 04/18/19
94742 | Hearst Media Services Connecticut LLC (State/One-Stop) | Norwalk, CT | 04/19/19 | 04/18/19
94743 | Logic Dental Solutions (State/One-Stop) | Lakewood, CO | 04/19/19 | 04/18/19
94744 | Optimas OE Solutions (State/One-Stop) | Commerce, CA | 04/19/19 | 04/18/19
94745 | ReEnergy (Workers) | Fort Fairfield, ME | 04/19/19 | 04/18/19
94746 | Concentrix CVG Customer Management Group Inc. (State/One-Stop) | Charlotte, NC | 04/22/19 | 04/22/19
94747 | Xerox Corporation (State/One-Stop) | Webster, NY | 04/23/19 | 04/22/19
94748 | The Bank of New York Mellon (Workers) | Pittsburgh, PA | 04/24/19 | 04/23/19
94749 | Deluxe Digital Distribution Inc. dba Deluxe on Demand (Workers) | Burbank, CA | 04/24/19 | 04/23/19
94750 | K & K Clothing Inc. (State/One-Stop) | Los Angeles, CA | 04/24/19 | 04/23/19
94751 | Ametek Instrumentation Systems (Company) | Warrenville, IL | 04/25/19 | 04/19/19
94752 | Cypress Creek Renewables (State/One-Stop) | Santa Monica, CA | 04/25/19 | 04/23/19
94753 | Deluxe Media Inc. (State/One-Stop) | Burbank, CA | 04/25/19 | 04/24/19
94754 | iPacesetters LLC (Workers) | Weston, WV | 04/25/19 | 04/24/19
94755 | LEDVANCE LLC (Company) | Saint Mary's, PA | 04/25/19 | 04/25/19
94756 | Ethan Allen Operations, Inc. (Company) | Passaic, NJ | 04/26/19 | 04/25/19
94757 | Evolent Health, LLC (State/One-Stop) | Arlington, VA | 04/26/19 | 04/25/19
94758 | Vertical Textiles, LLC (Workers) | Miami, FL | 04/26/19 | 04/25/19
94759 | Conduent Education Services LLC (State/One-Stop) | Long Beach, CA | 04/26/19 | 04/24/19
94760 | Imagination International Inc. (State/One-Stop) | Eugene, OR | 04/29/19 | 04/26/19
94761 | Isringhausen (State/One-Stop) | Galesburg, MI | 04/29/19 | 04/26/19
94762 | PayPal, Inc. (State/One-Stop) | Hunt Valley, MD | 04/29/19 | 04/26/19
94763 | PerkinElmer Health Sciences Inc. (State/One-Stop) | Shelton, CT | 04/29/19 | 04/26/19
94764 | Ross Mould LLC (Union) | Washington, PA | 04/29/19 | 04/26/19
94765 | Cenveo Publisher Services (State/One-Stop) | Richmond, VA | 04/30/19 | 04/29/19
94766 | Clover Yarns, Inc. (State/One-Stop) | Clover, VA | 04/30/19 | 04/29/19
94767 | Health First (State/One-Stop) | New York, NY | 04/30/19 | 04/29/19
94768 | Renovate America, Inc. (State/One-Stop) | San Diego, CA | 04/30/19 | 04/29/19
94769 | U.S. Bank, Portland Columbia Center (State/One-Stop) | Portland, OR | 04/30/19 | 04/29/19
94770 | Falcon Transportation (State/One-Stop) | Youngstown, OH | 05/01/19 | 05/01/19
94771 | Verso Corporation (MD and WV locations) (State/One-Stop) | Luke, MD | 05/01/19 | 04/30/19
94772 | Watlow Electric Manufacturing Company (State/One-Stop) | Columbia, MO | 05/01/19 | 04/30/19
94773 | Citicorp Credit Svcs Inc. USA dba Citibank and Citifinancial Svcs (State/One-Stop) | Irving, TX | 05/02/19 | 05/01/19
94774 | Ethan Allen Operations, Inc. (Company) | Old Fort, NC | 05/02/19 | 04/25/19
94775 | General Motors (State/One-Stop) | Warren, MI | 05/02/19 | 05/01/19
94776 | Thomson Reuters (State/One-Stop) | Rochester, NY | 05/02/19 | 05/01/19
94777 | Amsted Rail Company, Inc. (Union) | Granite City, IL | 05/03/19 | 05/02/19
94778 | Dalton Corporation/Motor Castings Foundry (Union) | Milwaukee, WI | 05/03/19 | 05/02/19
94779 | State Street Corporation (State/One-Stop) | Quincy, MA | 05/03/19 | 05/02/19
94780 | Target Corporation (State/One-Stop) | Minneapolis, MN | 05/03/19 | 05/02/19
94781 | Infocus Systems (Image Holdings Corporation) (State/One-Stop) | Portland, OR | 05/06/19 | 05/03/19
94782 | OMNOVA Solutions Inc. (Workers) | Green Bay, WI | 05/06/19 | 05/03/19
94783 | Sitel Group (State/One-Stop) | Albuquerque, NM | 05/06/19 | 05/03/19
94784 | Monterey Mushrooms, Inc. (State/One-Stop) | Bonne Terre, MO | 05/07/19 | 05/03/19
94785 | Quad Graphics Printing II LLC (State/One-Stop) | Portland, OR | 05/07/19 | 05/06/19
94786 | Silver Star Brands (Company) | Oshkosh, WI | 05/07/19 | 05/06/19
94787 | HBD/Thermoid (State/One-Stop) | Elgin, SC | 05/08/19 | 05/07/19
94788 | Honeywell International Inc. (State/One-Stop) | Galena, IL | 05/08/19 | 05/06/19
94789 | Kohler Co. (Company) | Brownwood, TX | 05/08/19 | 05/07/19
94790 | Valeo USA, Inc. (State/One-Stop) | Auburn Hills, MI | 05/08/19 | 05/07/19
94791 | ABB Inc. (State/One-Stop) | South Boston, VA | 05/09/19 | 05/08/19
94792 | Cooper Standard (Company) | Goldsboro, NC | 05/09/19 | 05/08/19
94793 | Lumedx Inc. (State/One-Stop) | Bellevue, WA | 05/09/19 | 05/07/19
94794 | American Technical Ceramics Corp. (Company) | Huntington Station, NY | 05/10/19 | 05/09/19
94795 | Columbia Forest Products (State/One-Stop) | Trumann, AR | 05/10/19 | 05/09/19
94796 | Hubbell Lighting, Inc.—Elgin (Company) | Elgin, IL | 05/10/19 | 05/08/19
94797 | Allianz Global Corporate & Specialty (State/One-Stop) | Burbank, CA | 05/13/19 | 05/10/19
94798 | Fargo Assembly of PA, Division of ECI (State/One-Stop) | Bethanu, MO | 05/13/19 | 05/10/19
94799 | Ocwen Loan Servicing (Company) | Glendale, CA | 05/13/19 | 05/10/19
94800 | Ocwen Loan Servicing (Company) | Fort Washington, PA | 05/13/19 | 05/10/19
94801 | Ocwen Loan Servicing (Company) | Orlando, FL | 05/13/19 | 05/10/19
94802 | Ocwen Loan Servicing (Company) | West Palm Beach, FL | 05/13/19 | 05/10/19
94803 | Oracle America Inc. (State/One-Stop) | Portland, OR | 05/13/19 | 05/10/19
94804 | PHH Mortgage Corporation (Company) | Mount Laurel, NJ | 05/13/19 | 05/10/19
94805 | Pure Wick (State/One-Stop) | El Cajon, CA | 05/13/19 | 05/10/19
94806 | Sysco Hampton Roads Inc. (State/One-Stop) | Suffolk, VA | 05/13/19 | 05/10/19
94807 | Asteelflash Raleigh (Workers) | Morrisville, NC | 05/14/19 | 05/14/19
94808 | Lester Inc. (State/One-Stop) | East Haven, CT | 05/14/19 | 05/13/19
94809 | Web.com Group, Inc. (State/One-Stop) | Spokane, WA | 05/14/19 | 05/08/19
94810 | Georgia Pacific Paper (Union) | Coos Bay, OR | 05/15/19 | 05/13/19
94811 | Liberty Mutual Group Inc. (State/One-Stop) | Mishawaka, IN | 05/15/19 | 05/14/19
94812 | Premier Aviation Overhaul Center, Ltd. (State/One-Stop) | Rome, NY | 05/15/19 | 05/14/19
94813 | AEP (State/One-Stop) | Conesville, OH | 05/16/19 | 05/16/19
94814 | American Technical Ceramics (Company) | Jacksonville, FL | 05/16/19 | 02/13/19
94815 | Asheboro Elastics Corporation (State/One-Stop) | Boykins, VA | 05/16/19 | 05/15/19
94816 | TMG Health, A Cognizant Technologies Company (State/One-Stop) | Jessup, PA | 05/16/19 | 05/15/19
94817 | Arconic Technology Center (Workers) | New Kensington, PA | 05/17/19 | 05/16/19
94818 | Interplex Daystar, Inc. (Company) | Franklin Park, IL | 05/17/19 | 05/16/19
94819 | Key Surgical LLC. DBA Mectra Laboratory (State/One-Stop) | Bloomfield, IN | 05/17/19 | 05/17/19
94820 | Kitron Technologies Inc. (State/One-Stop) | Windber, PA | 05/17/19 | 05/15/19
94821 | NYDJ Production LLC (State/One-Stop) | Vernon, CA | 05/17/19 | 05/16/19
94822 | VTech Communications (State/One-Stop) | Beaverton, OR | 05/17/19 | 05/16/19
94823 | AdvanSix (Workers) | Pottsville, PA | 05/20/19 | 05/17/19
94824 | AIG (Workers) | Berkeley Heights, NJ | 05/20/19 | 05/19/19
94825 | Payless Shoesource Worldwide, Inc. (State/One-Stop) | Topeka, KS | 05/20/19 | 05/20/19
94826 | TE Connectivity (Company) | Berwyn, PA | 05/20/19 | 05/17/19
94827 | Alorica Inc. (State/One-Stop) | St. Joseph, MO | 05/21/19 | 05/21/19
94828 | Eni USA R&M Company, Inc. (Company) | Cabot, PA | 05/21/19 | 05/20/19
94829 | Standard Insurance Co.(StanCorp Financial Group) (State/One-Stop) | Portland, OR | 05/21/19 | 05/20/19
94830 | U.S. Bank (Workers) | Owensboro, KY | 05/21/19 | 05/20/19
94831 | Arrow International (Company) | Asheboro, NC | 05/22/19 | 05/21/19
94832 | Classic American Hardwoods Inc. (State/One-Stop) | Memphis, TN | 05/22/19 | 05/21/19
94833 | Del Monte Foods, Inc., Deduction Analyst Department (State/One-Stop) | Walnut Creek, CA | 05/22/19 | 05/21/19
94834 | Emblem Health (State/One-Stop) | New York, NY | 05/22/19 | 05/21/19
94835 | Frontier Communications (State/One-Stop) | Rochester, NY | 05/22/19 | 05/21/19
94836 | Eagle Test systems (a Teradyne Company) (State/One-Stop) | Buffalo Grove, IL | 05/23/19 | 05/22/19
94837 | HCL America (State/One-Stop) | Frisco, TX | 05/23/19 | 05/22/19
94838 | Inspired By Drive (State/One-Stop) | Santa Fe Springs, CA | 05/23/19 | 05/22/19
94839 | Xerox Corporation (Workers) | Webster, NY | 05/23/19 | 05/22/19
94840 | Baker Hughes a GE Company (Lufkin Industries), Accounts Payable (State/One-Stop) | Lufkin, TX | 05/24/19 | 05/23/19
94841 | Conagra Brands (formally known as Pinnacle Foods) (State/One-Stop) | Cherry Hill, NJ | 05/24/19 | 05/23/19
94842 | Conagra Brands (Was Pinnacle Foods) (State/One-Stop) | Parsippany, NJ | 05/24/19 | 05/23/19
94843 | Sabre (Workers) | Southlake, TX | 05/24/19 | 05/23/19
94844 | Unilin North America LLC (division of Mohawk Industries) (State/One-Stop) | Danville, VA | 05/24/19 | 05/23/19
94845 | Vesuvius USA (State/One-Stop) | Tyler, TX | 05/24/19 | 05/23/19
94846 | A123 Systems, LLC (State/One-Stop) | Romulus, MI | 05/28/19 | 05/24/19
94847 | A123 Systems, LLC (State/One-Stop) | Livonia, MI | 05/28/19 | 05/28/19
94848 | David's Bridal (Workers) | New York, NY | 05/28/19 | 05/26/19
94849 | Deluxe Digital Cinema Inc. (State/One-Stop) | Wilmington, OH | 05/28/19 | 05/24/19
94850 | Geometric Americas, Inc. (State/One-Stop) | Troy, MI | 05/28/19 | 05/24/19
94851 | WoodCrest (Workers) | Peru, IN | 05/28/19 | 05/24/19
94852 | ZPOWER (State/One-Stop) | Camarillo, CA | 05/28/19 | 05/24/19
94853 | Detroit Renewable Power (Company) | Detroit, MI | 05/29/19 | 05/28/19
94854 | Clarion Sintered Metals (State/One-Stop) | Ridgway, PA | 05/30/19 | 05/29/19
94855 | Columbia Forest Products (State/One-Stop) | Klamath Falls, OR | 05/30/19 | 05/29/19
94856 | Finastra (Workers) | Plano, TX | 05/30/19 | 05/29/19
94857 | Millipore Sigma (State/One-Stop) | Burlington, MA | 05/30/19 | 05/30/19
94858 | Teck Washington Incorporated—Pend Oreille Operations (Company) | Metaline Falls, WA | 05/30/19 | 05/29/19
94859 | Wood Mode Inc. (State/One-Stop) | Kreamer, PA | 05/30/19 | 05/29/19
94860 | ATT Services—IT Voice Call Operations and Applications Development (Company) | Hoffman Estates, IL | 05/31/19 | 05/30/19
94861 | BD-Becton Dickinson (State/One-Stop) | Chelmsford, MA | 05/31/19 | 05/30/19
94862 | Breg, Inc. (Company) | Grand Prairie, TX | 05/31/19 | 05/23/19
94863 | Light Speed LLC (State/One-Stop) | Bellevue, WA | 05/31/19 | 05/29/19
94864 | Teck Washington Incorporated (State/One-Stop) | Metaline Falls, WA | 05/31/19 | 05/30/19

[FR Doc. 2019-14187 Filed 7-2-19; 8:45 am]

BILLING CODE 4510-FN-P